COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete products previously furnished by such agencies.

Comments Must Be Received On or Before: January 19, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Chemical Latrine Rental Servicing Vault Latrine Servicing, Fort Lewis & Yakima Training Center, Fort Lewis, Washington

NPA: Skookum Educational Programs, Port Townsend, Washington

Contract Activity: Directorate of Contracting, Fort Lewis, Washington

Service Type/Location: Facilities Maintenance, Greater Louisville Technology Park, Port Hueneme Detachment and Navy Caretaker Site Office, Louisville, Kentucky

NPA: Employment Source, Inc., Fayetteville, North Carolina

Contract Activity: Naval Surface Warfare Center, Crane, Indiana

Service Type/Location: Janitorial/Custodial, 183rd Fighter Wing Air National Guard, Capitol Airport, Springfield, Illinois

NPA: Challenge Unlimited, Inc., Alton, Illinois

Contract Activity: 183rd Fighter Wing/Air National Guard, Springfield, Illinois

Service Type/Location: Janitorial/Custodial, U.S. Army Reserve Center, Blacklick, Ohio

NPA: Licking-Knox Goodwill Industries, Inc., Newark, Ohio

Contract Activity: HQ, 88th Regional Support Command, Fort Snelling, Minnesota

Service Type/Location: Janitorial/Custodial, U.S. Army Reserve Center, Columbus, Ohio

NPA: Licking-Knox Goodwill Industries, Inc., Newark, Ohio Contract Activity: HQ, 88th Regional Support Command, Fort Snelling, Minnesota

Service Type/Location: Janitorial/Custodial, U.S. Geological Survey, Great Lakes Science Center, Ann Arbor, Michigan

NPA: Work Skills Corporation, Brighton, Michigan

Contract Activity: U.S. Geological Survey, Reston, Virginia

Service Type/Location: Janitorial/Custodial, U.S. Geological Survey, Upper Midwest, Environmental Science Center, La Crosse, Wisconsin

NPA: Riverfront Activity Center, Inc., La Crosse, Wisconsin

Contract Activity: U.S. Geological Survey, Reston, Virginia

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Pallet, P.S., Material Handling

3990-00-NSH-0008

NPA: Handi-Shop Industries, Inc., Tomah, Wisconsin

Contract Activity: U.S. Postal Service, Western Area Supply Center, Topeka, Kansas

Product/NSN: Pallet, Wood

3990-00-NSH-0072

NPA: Handi-Shop Industries, Inc., Tomah, Wisconsin

Contract Activity: Federal Prison Industries, Washington, DC

Sheryl D. Kennerly,
Director, Information Management.

[FR Doc. 02-32145 Filed 12-19-02; 8:45 am]

BILLING CODE 6353-01-P